DEPARTMENT OF ENERGY

Federal Energy Regulatory Commission

[Project No. 7108-001]

Virginia Hydro, Inc.; Notice of Availability of Final Environmental Assessment

April 27, 2000.

A final environmental assessment (FEA) is available for public review. The FEA is for an application to surrender the exemption for the Grove Mill Project. The FEA finds that approval of the proposed amendment would not constitute a major federal action significantly affecting the quality of the human environment. The Grove Mill Project is located on the Middle River, in Augusta County, Virginia.

The FEA was written by staff in the Office of Energy Projects, Federal Energy Regulatory Commission. Copies of the FEA are available for inspection and reproduction at the Commission's Public Reference Room, located at 888 First Street, NE, Room 2A, Washington, D.C. 20426, or by calling (202) 208-1371. The FEA may be viewed on the web at www.ferc.fed.us/online/rims.htm. Call (202) 208-2222 for assistance.

David P. Boergers,
Secretary.

[FR Doc. 00-10956 Filed 5-2-00; 8:45 am]

BILLING CODE 6717-01-M